ENVIRONMENTAL PROTECTION AGENCY

[EPA-HQ-OPP-2025-0029; FRL-13033-02-OCSPP]

Cancellation Order for Certain Pesticide Registrations and/or Amendments To Terminate Uses (From November 20, 2025, Notice)

AGENCY: Environmental Protection Agency (EPA).

ACTION: Notice.

SUMMARY: This notice announces EPA's order for the cancellations and/or amendments to terminate uses, voluntarily requested by the registrants and accepted by the Agency, pursuant to the Federal Insecticide, Fungicide, and Rodenticide Act (FIFRA). This cancellation order follows a November 20, 2025, Federal Register Notice of Receipt of Requests from the registrants listed in Table 3 of Unit II, to voluntarily cancel and/or amend to terminate uses of these product registrations. In the November 20, 2025, notice, EPA indicated that it would issue an order implementing the cancellations and/or amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The cancellations and/or amendments are effective February 19, 2026.

FOR FURTHER INFORMATION CONTACT: Christopher Green, Regulatory & Information Services Division, Office of Mission Critical Operations, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2025-0029, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744 and the telephone number for the OPP Docket is (202) 566-1744. Please review the visitor instructions and additional information about the docket available at https://www.epa.gov/dockets.

II. What action is the Agency taking?

This notice announces the cancellations and/or amendments to terminate uses, as requested by registrants, of products registered under FIFRA section 3 (7 U.S.C. 136a). These registrations are listed in sequence by registration number in Tables 1, 1A and 2 of this unit.

Table 1—Product Cancellations
Registration No. | Company No. | Product name | Active ingredient
100-1177 | 100 | Dynasty CST | Azoxystrobin (128810/131860-33-8)—(6.64%), Fludioxonil (071503/131341-86-1)—(1.11%), Metalaxyl-M (113502/70630-17-0)—(3.32%).
9374-8 | 9374 | Ragland Fly Block with Rabon (R) Oral Larvicide | Gardona (cis-isomer) (083702/22248-79-9)—(.3%).
9779-1011 | 9779 | Spray Oil 470 | Mineral oil—includes paraffin oil from 063503 (063502/8012-95-1)—(98.5%).
62719-435 | 62719 | RH-144228 Fungicide | Myclobutanil (128857/88671-89-0)—(.5%), Sulfur (077501/7704-34-9)—(96.75%).
73748-1 | 73748 | Aqua-Kontrol Concentrate | Permethrin (109701/52645-53-1)—(20%), Piperonyl butoxide (067501/51-03-6)—(20%).
73748-10 | 73748 | Kontrol Mosquito Larvicide | Aliphatic petroleum solvent (063503/64742-89-8)—(98%).
83222-10 | 83222 | Dormant & Summer Spray Oil | Mineral oil—includes paraffin oil from 063503 (063502/8012-95-1)—(98%).
92428-1 | 92428 | Huihuang Tebuconazole Technical | Tebuconazole (128997/107534-96-3)—(98.9%).
102474-2 | 102474 | Zhonghui Trifloxystrobin Technical | Trifloxystrobin (129112/141517-21-7)—(98.5%).
MN-210002 | 60063 | Echo 720 | Chlorothalonil (081901/1897-45-6)—(54%).
MN-210003 | 60063 | Echo ZN | Chlorothalonil (081901/1897-45-6)—(38.5%).
MN-210004 | 60063 | Echo 90DF | Chlorothalonil (081901/1897-45-6)—(90%).
MS-140005 | 87290 | Willowood Clomazone 3ME | Clomazone (125401/81777-89-1)—(31.1%).
OR-020027 | 92894 | Goal 2XL Herbicide | Oxyfluorfen (111601/42874-03-3)—(22.3%).
OR-050028 | 92894 | Goal 2XL | Oxyfluorfen (111601/42874-03-3)—(22.3%).
OR-210009 | 62719 | Starane Ultra | Fluroxypyr 1-methylheptyl ester (128968/81406-37-3)—(45.52%).
OR-210010 | 62719 | Starane Ultra | Fluroxypyr 1-methylheptyl ester (128968/81406-37-3)—(45.52%).
TX-150002 | 87290 | Willowood Clomazone 3ME | Clomazone (125401/81777-89-1)—(31.1%).
TX-190010 | 279 | Flutriafol 500 G/L SC | Flutriafol (128940/76674-21-0)—(42%).
WA-220003 | 352 | Dupont Fontelis Fungicide | Penthiopyrad (090112/183675-82-3)—(20.4%).
WI-230002 | 66222 | Bravo ZN | Chlorothalonil (081901/1897-45-6)—(38.5%).
WI-230003 | 66222 | Bravo 825 Agricultural Fungicide | Chlorothalonil (081901/1897-45-6)—(82.5%).
WI-230004 | 66222 | Bravo Weather Stik | Chlorothalonil (081901/1897-45-6)—(54%).

The registrants of the products listed in Table 1A of this unit have requested 18-months to sell existing stocks of those products.

Table 1A—Product Cancellations, Cont'd
Registration No. | Company No. | Product name | Active ingredient
62719-649 | 62719 | Enlist Duo | 2,4-D, choline salt (051505/1048373-72-3)—(24.4%), Glyphosate, dimethylammonium salt (103608/34494-04-7)—(22.1%).
66222-245 | 66222 | Mana 14223 | Metolachlor (108801/51218-45-2)—(58.52%), Metribuzin (101101/21087-64-9)—(13.93%).

Table 2—Product Registration Amendments To Terminate Uses
Registration No. | Company No. | Product name | Active ingredient | Uses to be terminated
19713-268 | 19713 | Drexel Kaptan 50W | Captan (081301/133-06-2)—(48.9%) | Home and garden use.
101563-130 | 101563 | Spirotetramat 240 SC Greenhouse and Nursery Insecticide/Miticide | Spirotetramat (392201/203313-25-1)—(22.4%) | Vegetable crops use.

Table 3 of this unit includes the names and addresses of record for all registrants of the products in Tables 1, 1A and 2 of this unit, in sequence by EPA company number. This number corresponds to the first part of the EPA registration numbers of the products listed above.

Table 3—Registrants of Cancelled and/or Amended Products
Company No. | Company name and address
100 | Syngenta Crop Protection, LLC, 410 Swing Road, P.O. Box 18300, Greensboro, NC 27419-8300.
279 | FMC Corporation, 2929 Walnut Street, Philadelphia, PA 19104.
352 | Corteva Agriscience, LLC, 9330 Zionsville Road, Indianapolis, IN 46268.
9374 | Livestock Nutrition Center, LLC, 409 Sheppard St., Chickasha, OK 73018.
9779 | Winfield Solutions, LLC, P.O. Box 64589, St. Paul, MN 55164-0589.
19713 | Drexel Chemical Company, P.O. Box 13327, Memphis, TN 38113-0327.
60063 | Sipcam Agro USA, Inc., 2525 Meridian Pkwy, Durham, NC 27713.
62719 | Corteva Agriscience, LLC, 9330 Zionsville Road, Indianapolis, IN 46268.
66222 | Makhteshim Agan of North America, Inc., D/B/A Adama, 8601 Six Forks Road, Suite 300, Raleigh, NC 27615.
73748 | Veseris, 10800 Pecan Park Blvd., Suite 300, Austin, TX 78750.
83222 | Winfield Solutions, LLC, 1080 County Rd. F West, MS5705, P.O. Box 64589, St. Paul, MN 55164.
87290 | Generic Crop Science, LLC, Agent Name: Syntech Research Group, 7217 Lancaster Pike, Suite A, P.O. Box 640, Hockessin, DE 19707.
92428 | Yancheng Huihuang Chemical Co. Ltd., Agent Name: Wagner Regulatory Associates, Inc., P.O. Box 640, Hockessin, DE 19707.
92894 | Nutrichem USA, Inc., Agent Name: Pyxis Regulatory Consulting, Inc., 535 Dock Street, Suite 211, Tacoma, WA 98402.
101563 | Environmental Science U.S., LLC, 5000 CentreGreen Way, Suite 400, Cary, NC 27513.
102474 | Liaoning Zhonghui Biotechnology Co., Ltd., Agent Name: Reach24H USA, Inc., 11921 Freedom Drive, Suite 550, Reston, VA 20190.

III. Summary of Public Comments Received and Agency Response to Comments

During the public comment period provided, EPA received no comments in response to the November 20, 2025, Federal Register notice announcing the Agency's receipt of the requests for voluntary cancellations and/or amendments to terminate uses of products listed in Tables 1, 1A and 2 of Unit II.

IV. Cancellation Order

Pursuant to FIFRA section 6(f) (7 U.S.C. 136d(f)(1)), EPA hereby approves the requested cancellations and/or amendments to terminate uses of registrations identified in Tables 1, 1A and 2 of Unit II. Accordingly, the Agency hereby orders that the product registrations identified in Tables 1, 1A and 2 of Unit II, are canceled and/or amended to terminate the affected uses. The effective date of the cancellations that are subject of this notice is February 19, 2026. Any distribution, sale, or use of existing stocks of the products identified in Tables 1, 1A and 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of November 20, 2025 (90 FR 52388) (FRL-13003-01-OCSPP). The comment period closed on December 22, 2025.

VI. Provisions for Disposition of Existing Stocks

Existing stocks are those stocks of registered pesticide products which are currently in the United States, and which were packaged, labeled, and released for shipment prior to the effective date of the action. The existing stocks provision for the products subject to this order is as follows.

The registrants may continue to sell and distribute existing stocks of products listed in Table 1 of Unit II until February 19, 2027, which is 1 year after publication of this cancellation order in the Federal Register. Thereafter, the registrants are prohibited from selling or distributing products listed in Table 1 of Unit II, except for export in accordance with FIFRA section 17 (7 U.S.C. 136o) or for proper disposal.

For the products listed in Table 1A of Unit II, the registrants have requested 18-months to sell existing stocks of those products. The registrants are permitted to sell or distribute products listed in Table 1A of Unit II, until August 19, 2027, a period of 18 months after publication of the cancellation order in this Federal Register. Thereafter, the registrants are prohibited from selling or distributing these products, except for export in accordance with FIFRA section 17 (7 U.S.C. 136o) or for proper disposal.

Now that EPA has approved product labels reflecting the requested amendments to terminate uses, registrants are permitted to sell or distribute products listed in Table 2 of Unit II, under the previously approved labeling until August 19, 2027, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: February 9, 2026.
Charles Smith,
Director, Registration Division, Office of Pesticide Programs.

[FR Doc. 2026-03249 Filed 2-18-26; 8:45 am]

BILLING CODE 6560-50-P